NATIONAL SCIENCE BOARD

Programs and Plans Committee; Notice of Meeting

Date and Time: January 9, 2006, 10 a.m.-11 a.m. (ET)

Place: National Science Foundation, 4201 Wilson Boulevard, Arlington, VA 22230, Public Meeting Room 365.

Status: This meeting will be open to the public.

Matters To Be Considered:

Monday, January 9, 2006, Open Session

Open Session (10 a.m.-11 a.m.)

• Committee review of NSF draft Cyberinfrastructure Vision document

• Committee discussion and comments

FOR FURTHER INFORMATION CONTACT: Dr. Michael P. Crosby, Executive Officer and NSB Office Director, (703) 292-7000, http://www.nsf.gov/nsb.

Michael P. Crosby,
Executive Officer and NSB Office Director.

[FR Doc. E5-8216 Filed 12-30-05; 8:45 am]

BILLING CODE 7555-01-P